DEPARTMENT OF HEALTH AND HUMAN SERVICES

Centers for Disease Control and Prevention

[Program Announcement AA161]

LIVE STRONG Cancer Survivorship Resource Center Notice of Intent To Fund Single Eligibility Award

A. Purpose

The Centers for Disease Control and Prevention (CDC) announces the intent to fund fiscal year (FY) 2005 funds for a cooperative agreement program to support the development and the expansion of the Lance Armstrong Foundation's (LAF) “LIVE STRONG” Program by enhancing the “LIVE STRONG” Cancer Survivorship Resource center to serve as a national resource for cancer patients, survivors, and their family and friends. The successful implementation of the program will result in the LAF developing, implementing and evaluating the LIVE STRONG Cancer Survivorship Resource Center. This initiative does not duplicate the National Cancer Institute's (NCI) efforts but is intended to complement NCI's LIVE STRONG efforts because of the strategies, channels, or other assets the LAF provides. The Catalog of Federal Domestic Assistance number for this program is 93.283.

B. Eligible Applicant

Assistance will be provided only to the Lance Armstrong Foundation as cited in the Departments of Labor, Health and Human Services, and Education and Related Appropriations Bill, 2005, Senate Report No. 108-345, September 15, 2004.

Congressional language directs CDC to provide the funding to LAF. The specific language is as follows: “The Committee applauds the partnership between CDC and the Lance Armstrong Foundation [LAF] to address the needs of the nearly 10 million cancer survivors by expanding the agency's State-based comprehensive cancer control program to include issues of survivorship, as outlined in the recently released National Action Plan for Cancer Survivorship. The Committee supports the development and expansion of Live Strong to serve as a national resource for cancer patients, survivors, and their family and friends. Therefore, the Committee provides $1,000,000 to enhance the Live Strong cancer survivorship resource center.”

In 2004 CDC and LAF joined forces to lead a public health effort to address the issues faced by the growing number of cancer survivors, caregivers, and their families. Through this collaboration A National Action Plan for Cancer Survivorship: Advancing Public Health Strategies was developed. LAF continues to serve as a cornerstone bridging cancer survivorship and public health. The FY 2005 Senate Report recognized the unique work of the LAF through its “LIVE STRONG” program and directed CDC to provide funding to the LAF to enhance their “LIVE STRONG” initiative in support of A National Action Plan for Cancer Survivorship: Advancing Public Health Strategies. The LAF is in a unique position to educate people living with cancer, their friends and family, and health care professionals about battling cancer. This funding assistance to LAF will enhance a previously established resource center that assists individuals' understanding of some of the physical, emotional and practical issues that may be part of dealing with the disease. Sharing knowledge and support through this unique resource will help people fighting cancer and their loved ones.

C. Funding

Approximately $730,000 is available in FY 2005 to fund this award August 31, 2005 and will be made for a 12-month budget period within a project period of up to five years. Funding estimates may change.

D. Where To Obtain Additional Information

For general comments or questions about this announcement, contact: Technical Information Management, CDC Procurement and Grants Office, 2920 Brandywine Road, Atlanta, GA 30341-4146, Telephone: 770-488-2700.

For technical questions about this program, contact: Steven L. Reynolds, MPH, Project Officer, Associate Director for Program and Policy, Division of Cancer Prevention and Control, 4770 Buford Highway, NE., Mailstop K-56, Atlanta, GA 30341, Telephone: 770-488-4260, E-mail: RLReynolds@cdc.gov.

Dated: June 22, 2005.
William P. Nichols,
Director, Procurement and Grants Office, Centers for Disease Control and Prevention.

[FR Doc. 05-12694 Filed 6-27-05; 8:45 am]

BILLING CODE 4163-18-P